DEPARTMENT OF ENERGY

Federal Energy Regulatory Commission

Combined Notice of Filings #1

Take notice that the Commission received the following electric corporate filings:

Docket Numbers: EC17-8-000.

Applicants: Noble Americas Energy Solutions LLC, Calpine Energy Services Holdco II LLC.

Description: Joint Application for Authorization under Section 203 of the Federal Power Act and Request for Waivers, Confidential Treatment, and Expedited Consideration of Noble Americas Energy Solutions LLC, et al.

Filed Date: 10/12/16.

Accession Number: 20161012-5166.

Comments Due: 5 p.m. ET 11/2/16.

Docket Numbers: EC17-9-000.

Applicants: Enel Cove Fort, LLC, Enel Stillwater, LLC, EGP Stillwater Solar, LLC, Origin Wind Energy, LLC, Chisholm View Wind Project, LLC, Prairie Rose Wind, LLC, Prairie Rose Transmission, LLC, Goodwell Wind Project, LLC, EFS Green Power Holdings, LLC.

Description: Application for Authorization Under Section 203 of the Federal Power Act and Request for Expedited Action of Enel Cove Fort, LLC, et al.

Filed Date: 10/12/16.

Accession Number: 20161012-5168.

Comments Due: 5 p.m. ET 11/2/16.

Docket Numbers: EC17-10-000.

Applicants: Osborn Wind Energy, LLC, Oliver Wind III, LLC.

Description: Application for Authorization Under Section 203 of the Federal Power Act and Request for Expedited Action of Osborn Wind Energy, LLC, et al.

Filed Date: 10/12/16.

Accession Number: 20161012-5181.

Comments Due: 5 p.m. ET 11/2/16.

Take notice that the Commission received the following exempt wholesale generator filings:

Docket Numbers: EG17-6-000.

Applicants: Broadview Energy JN, LLC.

Description: Broadview Energy JN, LLC submits Notice of Self-Certification of Exempt Wholesale Generator Status.

Filed Date: 10/13/16.

Accession Number: 20161013-5124.

Comments Due: 5 p.m. ET 11/3/16.

Docket Numbers: EG17-7-000.

Applicants: Broadview Energy KW, LLC.

Description: Broadview Energy KW, LLC submits Notice of Self-Certification of Exempt Wholesale Generator Status.

Filed Date: 10/13/16.

Accession Number: 20161013-5128.

Comments Due: 5 p.m. ET 11/3/16.

Take notice that the Commission received the following electric rate filings:

Docket Numbers: ER15-486-003.

Applicants: Peninsula Power, LLC.

Description: Notification of Non-Material Change in Status of Peninsula Power, LLC.

Filed Date: 10/13/16.

Accession Number: 20161013-5132.

Comments Due: 5 p.m. ET 11/3/16.

Docket Numbers: ER16-2659-002.

Applicants: Grant Plains Wind, LLC.

Description: Supplement to October 3, 2016 Grant Plains Wind, LLC tariff filing.

Filed Date: 10/12/16.

Accession Number: 20161012-5176.

Comments Due: 5 p.m. ET 11/2/16.

Docket Numbers: ER17-75-000.

Applicants: PJM Interconnection, LLC.

Description: § 205(d) Rate Filing: Second Revised ISA No. 3837, Queue No. X4-048/Y2-089 to be effective 10/1/2016.

Filed Date: 10/12/16.

Accession Number: 20161012-5155.

Comments Due: 5 p.m. ET 11/2/16.

Docket Numbers: ER17-76-000.

Applicants: NorthWestern Corporation.

Description: § 205(d) Rate Filing: SA 789—Agreement with Jackson Contractor Group re Missoula College Project to be effective 10/14/2016.

Filed Date: 10/13/16.

Accession Number: 20161013-5025.

Comments Due: 5 p.m. ET 11/3/16.

Docket Numbers: ER17-77-000.

Applicants: Deseret Generation & Transmission Co-operative, Inc.

Description: Compliance filing: OATT Order No. 827 828 661, Compliance Filing to be effective 10/14/2016.

Filed Date: 10/13/16.

Accession Number: 20161013-5030.

Comments Due: 5 p.m. ET 11/3/16.

Docket Numbers: ER17-78-000.

Applicants: Southern California Edison Company.

Description: § 205(d) Rate Filing: SCE Combined Compliance Filing to be effective 10/14/2016.

Filed Date: 10/13/16.

Accession Number: 20161013-5037.

Comments Due: 5 p.m. ET 11/3/16.

Docket Numbers: ER17-79-000.

Applicants: Portland General Electric Company.

Description: Compliance filing: Combined Order 827 and 828 Compliance Filing to be effective 10/14/2016.

Filed Date: 10/13/16.

Accession Number: 20161013-5094.

Comments Due: 5 p.m. ET 11/3/16.

Docket Numbers: ER17-80-000.

Applicants: NorthWestern Corporation.

Description: § 205(d) Rate Filing: SA 793—Agreement with Montana DOT re West Laurel Interchange Project to be effective 10/14/2016.

Filed Date: 10/13/16.

Accession Number: 20161013-5102.

Comments Due: 5 p.m. ET 11/3/16.

Docket Numbers: ER17-81-000.

Applicants: Entergy Louisiana, LLC.

Description: Request for Authorization and Limited Waiver of Entergy Louisiana, LLC.

Filed Date: 10/13/16.

Accession Number: 20161013-5103.

Comments Due: 5 p.m. ET 11/3/16.

Docket Numbers: ER17-82-000.

Applicants: Southwest Power Pool, Inc.

Description: § 205(d) Rate Filing: Revisions to Attachment O to Clarify the ITP Process to be effective 12/12/2016.

Filed Date: 10/13/16.

Accession Number: 20161013-5144.

Comments Due: 5 p.m. ET 11/3/16.

Take notice that the Commission received the following public utility holding company filings:

Docket Numbers: PH17-2-000.

Applicants: Manulife Financial Corporation.

Description: Manulife Financial Corporation submits ERC 65-B Waiver Notification.

Filed Date: 10/13/16.

Accession Number: 20161013-5131.

Comments Due: 5 p.m. ET 11/3/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 13, 2016.
Nathaniel J. Davis, Sr.,
Deputy Secretary.

[FR Doc. 2016-25243 Filed 10-18-16; 8:45 am]

BILLING CODE 6717-01-P